Title 3—

The President

Proclamation 9659 of October 12, 2017

National Energy Awareness Month, 2017

By the President of the United States of America

A Proclamation

During National Energy Awareness Month, we commit to achieving an America First energy policy that will lower energy costs for hardworking Americans, protect our national security, and promote responsible stewardship of the environment. The United States is blessed with extraordinary energy abundance, and we must encourage policies that allow innovative Americans to unleash our Nation's energy potential and drive robust job growth and expansion in every sector of our economy.

It is time we make America's energy dominance a priority. Since 1954, America has been a net importer of energy. My Administration is working to change that and make America become a net energy exporter by 2026. We must empower Americans to access the vast reserves of coal, oil, and natural gas stored across our land, and to develop nuclear, hydropower, and all other types of clean and renewable energy. Recently, the Department of Energy approved applications to expand our exports of liquefied natural gas (LNG) and establish our Nation as a top LNG supplier to the world. We are also starting to see the effects of ending the war on coal. In the first months of my Administration, United States coal exports have increased by nearly 60 percent from the same time period last year. Together with the Congress and with our State and local partners, we can better enable improvements in energy infrastructure, streamline our Nation's complex regulations, and we can become energy dominant.

An America First energy policy goes hand-in-hand with responsible environmental protection. Protecting our streams, lakes, and air, and preserving all of our natural habitats, will always be high priority for my Administration. Since 1970, aggregate emissions of six common air pollutants have fallen by 73 percent. We have aggressively fought pollution and reduced emissions even as our population, energy use, and energy production have all grown. Innovative technologies focused on achieving affordable and reliable energy—from Alaska's North Slope to the Great Plains and the Gulf of Mexico—will continue to allow our country to protect our environment, while also reducing our trade deficits, strengthening energy security, raising wages, and supporting job growth for the hundreds of thousands of Americans currently employed in the energy sector.

During National Energy Awareness Month, we are mindful of our energy use and determined to safeguard our energy security. We must remember that some countries do not share our belief in universal access to clean and affordable energy. We thus recommit to freeing our Nation from reliance on the Organization of Petroleum Exporting Countries (OPEC) cartel and to helping our friends and allies overseas reduce their dependence on those who seek to use energy as a weapon. An energy dominant America is good for Americans—and good for the world.

NOW, THEREFORE, I, DONALD J. TRUMP, President of the United States of America, by virtue of the authority vested in me by the Constitution and the laws of the United States, do hereby proclaim October 2017 as National Energy Awareness Month.

IN WITNESS WHEREOF, I have hereunto set my hand this twelfth day of October, in the year of our Lord two thousand seventeen, and of the Independence of the United States of America the two hundred and forty-second.

[FR Doc. 2017-22676

Filed 10-16-17; 11:15 am]

Billing code 3295-F8-P